DEPARTMENT OF COMMERCE

International Trade Administration

[A-549-502]

Circular Welded Carbon Steel Pipes and Tubes From Thailand: Final Results of Antidumping Duty Administrative Review and Final Determination of No Shipments, In Part; 2018-2019

AGENCY: Enforcement and Compliance, International Trade Administration, Department of Commerce.

SUMMARY: The Department of Commerce (Commerce) finds that circular welded carbon steel pipes and tubes (pipes and tubes) from Thailand are being, or are likely to be sold, at less than normal value during the period of review (POR), March 1, 2018 through February 28, 2019. We further determine that K Line Logistics had no shipments during the POR.

DATES: Applicable January 27, 2021.

FOR FURTHER INFORMATION CONTACT: Toni Page, AD/CVD Operations, Office VII, Enforcement and Compliance, International Trade Administration, U.S. Department of Commerce, 1401 Constitution Avenue NW, Washington, DC 20230; telephone: (202) 482-1396.

SUPPLEMENTARY INFORMATION:

Background

On April 2, 2020, Commerce published the preliminary results of the administrative review of the antidumping duty order on pipes and tubes from Thailand.¹ The review covers 30 producers and/or exporters of the subject merchandise, including Saha Thai Steel Pipe Public Co., Ltd., also known as Saha Thai Steel Pipe (Public) Co., Ltd. (Saha Thai), which Commerce selected for individual examination. Further, Commerce found that K Line Logistics had no shipments during the POR. For a discussion of events since the Preliminary Results were published, see the Issues and Decision Memorandum.²

¹ See Circular Welded Carbon Steel Pipes and Tubes from Thailand: Preliminary Results of Antidumping Duty Administrative Review and Preliminary Determination of No Shipments; 2018-2019, 85 FR 18552 (April 2, 2020) (Preliminary Results), and accompanying Preliminary Decision Memorandum.

² See Memorandum, “Circular Welded Carbon Steel Pipes and Tubes from Thailand: Issues and Decision Memorandum for the Final Results of Antidumping Duty Administrative Review and Final No Shipment Determination, In Part; 2018-2019,” dated concurrently with, and hereby adopted by, this notice (Issues and Decision Memorandum).

Scope of the Order

The products covered by this review are certain circular welded carbon steel pipes and tubes from Thailand. For a full description of the scope, see the Issues and Decision Memorandum.³

³ See Issues and Decision Memorandum at “Scope of the Order.”

Analysis of Comments Received

All issues raised in the case and rebuttal briefs by parties to this administrative review are addressed in the Issues and Decision Memorandum.⁴ A list of issues raised, and to which we responded, in the Issues and Decision Memorandum, is attached to this notice as an appendix. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly on the internet at http://enforcement.trade.gov/frn/index.html. The signed and electronic versions of the Issues and Decision Memorandum are identical in content.

⁴ Id.

Final Determination of No Shipments, In Part

Commerce preliminarily found that K Line Logistics (K Line) had no shipments during the POR.⁵ We received no further comments or information that refute this finding since the Preliminary Results. Thus, Commerce continues to find that K Line had no shipments during the POR.

⁵ See Preliminary Results, 85 FR at 18552.

Changes Since the Preliminary Results

Based on a review of the record and comments received from interested parties, we have made changes to the weighted-average dumping margins applied to Saha Thai and the remaining non-selected respondents. For further discussion, see the Issues and Decision Memorandum.

Final Results of the Administrative Review

Commerce preliminarily determines that the following weighted-average dumping margins exist for the period March 1, 2018 through February 28, 2019:

Producer or exporter | Weighted-average dumping margin (percent)
Saha Thai Steel Pipe (Public) Company, Ltd | 37.55
Apex International Logistics | 37.55
Aquatec Maxcon Asia | 37.55
Asian Unity Part Co., Ltd | 37.55
Bis Pipe Fitting Industry Co., Ltd | 37.55
Blue Pipe Steel Center | 37.55
Blue Pipe Steel Center Co., Ltd | 37.55
Chuhatsu (Thailand) Co., Ltd | 37.55
CSE Technologies Co., Ltd | 37.55
Expeditors International (Bangkok) | 37.55
Expeditors Ltd | 37.55
FS International (Thailand) Co., Ltd | 37.55
Kerry-Apex (Thailand) Co., Ltd | 37.55
Oil Steel Tube (Thailand) Co., Ltd | 37.55
Otto Ender Steel Structure Co., Ltd | 37.55
Pacific Pipe and Pump | 37.55
Pacific Pipe Public Company Limited (also known as Pacific Pipe Company) | 37.55
Panalpina World Transport Ltd | 37.55
Polypipe Engineering Co., Ltd | 37.55
Schlumberger Overseas S.A | 37.55
Siam Fittings Co., Ltd | 37.55
Siam Steel Pipe Co., Ltd | 37.55
Sino Connections Logistics (Thailand) Co., Ltd | 37.55
Thai Malleable Iron and Steel | 37.55
Thai Oil Group | 37.55
Thai Oil Pipe Co., Ltd | 37.55
Thai Premium Pipe Co., Ltd | 37.55
Vatana Phaisal Engineering Company | 37.55
Visavakit Patana Corp., Ltd | 37.55

Assessment Rates

Pursuant to section 751(a)(2)(C) of the Tariff Act of 1930, as amended (the Act), and 19 CFR 351.212(b)(1), Commerce determined, and U.S. Customs and Border Protection (CBP) shall assess, antidumping duties on all appropriate entries of subject merchandise, in accordance with the final results of this review. For each of the companies identified in the “Final Results of the Administrative Review” above, Commerce will instruct CBP to assess antidumping duties at the ad valorem rate equal to each company's weighted-average dumping margin.

Consistent with its recent notice,⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁶ See Notice of Discontinuation of Policy to Issue Liquidation Instructions After 15 Days in Applicable Antidumping and Countervailing Duty Administrative Proceedings, 86 FR 3995 (January 15, 2021).

Cash Deposit Requirements

The following cash deposit requirements will be effective for all shipments of subject merchandise entered, or withdrawn from warehouse, for consumption on or after the date of publication of the final results of this administrative review, as provided for by section 751(a)(2)(C) of the Act: (1) The cash deposit rate for the companies under review will be equal to the weighted-average dumping margin established in the final results of this review; (2) for previously reviewed or investigated companies not listed above in the “Final Results of the Administrative Review” above, including companies for which Commerce may determine to have had no shipments during the POR, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 15.67 percent established in the less-than-fair-value investigation.⁷ These deposit requirements, when imposed, shall remain in effect until further notice.

⁷ See Antidumping Duty Order; Circular Welded Carbon Steel Pipes and Tubes from Thailand, 51 FR 8341 (March 11, 1986).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing this notice in accordance with sections 751(a)(1) and 777(i) of the Act, and 19 CFR 351.221(b)(5).

Dated: January 19, 2021
Jeffrey I. Kessler,
Assistant Secretary for Enforcement and Compliance.

Appendix—List of Topics Discussed in the Issues and Decision Memorandum

I. Summary

II. Background

III. Scope of the Order

IV. Changes to the Preliminary Results

V. Discussion of Comments

Comment 1: Dual-Stenciled Standard Pipe and Line Pipe

Comment 2: Acceptance of Wheatland's New Factual Information (NFI) Submission

Comment 3: Application of Total Adverse Facts Available (AFA) to Saha Thai

Comment 4: Extension of the Deadlines To Reopen the Record of Review

Comment 5: Adjustment of Hot-Rolled Coil (HRC) Costs to Account for a Particular Market Situation (PMS)

VI. Recommendation

[FR Doc. 2021-01793 Filed 1-26-21; 8:45 am]

BILLING CODE 3510-DS-P